DEPARTMENT OF COMMERCE

Notice of an Energy Trade Mission to Nigeria, Gabon, and Sao Tome and Principe

AGENCY: International Trade Administration, Department of Commerce.

ACTION: Notice.

SUMMARY: The Department of Commerce invites U.S. companies to participate in the following overseas trade mission: Oil and Gas Business Development Mission to Nigeria, Gabon, and Sao Tome and Principe. Date: November 15-22, 2003. The Deputy Assistant Secretary for Energy, Environment, and Materials, Kevin Murphy, will lead an energy trade mission to Nigeria, Gabon, and Sao Tome and Principe. Focusing on equipment, services, exploration, and production aspects of the energy sector, the mission will include representatives from 8-12 U.S. firms interested in gaining access to these West African energy markets. For a more complete description, obtain a copy of the mission statement from the Project Officer indicated below.

DATES: The trade will take place from November 15-22, 2003. Applications may be submitted immediately. All application must be received by September 15, 2003. Applications received after the date will be considered only if space and scheduling constraints permit. Recruitment and selection or private sector participants for the trade will be conducted according to the Statement of Policy Governing Department of Commerce Overseas Trade Missions dated March 3, 1997.

ADDRESSES: Applications must be submitted to Mr. Aaron Brickman, Office of Energy, U.S. Department of Commerce, Room H4056, Washington, DC 20230; Telephone: 202-482-1889; Facsimile: 202-482-0170; E-mail: aaron_brickman@ita.doc.gov.

FOR FURTHER INFORMATION CONTACT: Mr. Aaron Brickman, U.S. Department of Commerce; Telephone: 202-482-1889; Facsimile: 202-482-0170; or E-mail: aaron_brickman@ita.doc.gov.

Dated: July 8, 2003.
Helen Burroughs,
Director, Office of Energy.

[FR Doc. 03-18708 Filed 7-22-03; 8:45 am]

BILLING CODE 3510-DR-M